SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 17, 2006.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, SW., Suite 8300, Washington, DC 20416.

FOR FURTHER INFORMATION CONTACT: Sandra Johnston, Program Analyst, Office of Financial Assistance, 202-205-7528, sandra.johnston@sba.gov; Curtis B. Rich, Management Analyst, 202-205-7030, curtis.rich@sba.gov.

SUPPLEMENTARY INFORMATION: Title: “Form of Detached Assignment for U.S. Small Business Administration Loan Pool or Guaranteed Interest Certificate”.

Description of Respondents: Secondary market participants.

Form No: 1088.

Annual Responses: 6,500.

Annual Burden: 9,750.

Supplementary Information:

Title: “PCLP Quarterly Loan Reserve Report and PCLP Guarantee Request”.

Description of Respondents: PCLP Lenders.

Form Nos: 2233, 2234A/B/C.

Annual Responses: 886.

Annual Burden: 832.

Supplementary Information:

Title: “SBA Express Information Collection”.

Description of Respondents: SBA Express Lenders.

Form No's: 1919, 1920sx, 2236, 2237, 2238.

Annual Responses: 20,000.

Annual Burden: 17,500.

Addresses: Send all comments regarding whether this information collection is necessary for the proper performance of the function of the agency, whether the burden estimates are accurate, and if there are ways to minimize the estimated burden and enhance the quality of the collection, to Cynthia Pitts, Administrative Officer, Office of Disaster Assistance, Small Business Administration, 409 3rd Street SW., 6th floor, Washington, DC 20416.

For Further Information Contact: Cynthia Pitts, Administrative Officer, Office of Disaster Assistance, 202-205-7570, cynthia.pitts@sba.gov; Curtis B. Rich, Management Analyst, 202-205-7030, curtis.rich@sba.gov.

Supplementary Information:

Title: “Disaster Survey Worksheet”.

Description of Respondents: Applicants who warrant Disaster Declaration.

Form No: 987.

Annual Responses: 3,000.

Annual Burden: 249.

Addresses: Send all comments regarding whether these information collections are necessary for the proper performance of the function of the agency, whether the burden estimates are accurate, and if there are ways to minimize the estimated burden and enhance the quality of the collections, to Rachel Karton, Program Analyst, Office of Small Business Development Centers, Small Business Administration, 409 3rd Street, SW., 6th floor, Washington, DC 20416.

For Further Information Contact: Rachel Karton, Program Analyst, Office of Small Business Development Centers, 202-619-1816, rachel.Newman-Karton@sba.gov; Curtis B. Rich, Management Analyst, 202-205-7030, curtis.rich@sba.gov.

Supplementary Information:

Title: “Training Program Evaluation”.

Description of Respondents: Small Business Clients.

Form No: 20.

Annual Responses: 200,000.

Annual Burden: 40,000.

Supplementary Information:

Title: “SBDC Program & Financial Reports”.

Description of Respondents: SBDC Directors.

Form No: SF-269 and SF-272.

Annual Responses: 114.

Annual Burden: 7,524.

Addresses: Send all comments regarding whether this information collection is necessary for the proper performance of the function of the agency, whether the burden estimates are accurate, and if there are ways to minimize the estimated burden and enhance the quality of the collection, to Martin Gold, Deputy Regional Administrator, Office of the Ombudsman, Small Business Administration, 409 3rd Street, SW., 8th floor, Washington, DC 20416.

For Further Information Contact: Martin Gold, Deputy Regional Administrator, Office of the Ombudsman, 202-205-7549, martin.gold@sba.gov; Curtis B. Rich, Management Analyst, 202-205-7030, curtis.rich@sba.gov.

Supplementary Information:

Title: “Federal Agency Comment Form”.

Description of Respondents: Small Business Owners and Farmers.

Form No: 1993.

Annual Responses: 400.

Annual Burden: 300.

Addresses: Send all comments regarding whether this information collection is necessary for the proper performance of the function of the agency, whether the burden estimates are accurate, and if there are ways to minimize the estimated burden and enhance the quality of the collection, to Tina Johnson, Program Analyst, Office of Small Business Development Centers, Small Business Administration, 409 3rd Street, SW., 8th floor, Washington, DC 20416.

For Further Information Contact: Tina Johnson, Program Analyst, Office of Government Contracting, 202-205-7976, tina.johnson@sba.gov; Curtis B. Rich, Management Analyst, 202-205-7030, curtis.rich@sba.gov.

Supplementary Information:

Title: “ProNet”.

Description of Respondents: Small Firms.

Form No: N/A.

Annual Responses: 10,000.

Annual Burden: 2,500.

Jacqueline White,
Chief, Administrative Information Branch.

[FR Doc. E6-15486 Filed 9-15-06; 8:45 am]

BILLING CODE 8025-01-P